DEPARTMENT OF TRANSPORTATION

Federal Aviation Administration

14 CFR Part 39

[Docket No. FAA-2005-20882; Directorate Identifier 2004-NM-241-AD]

RIN 2120-AA64

Airworthiness Directives; McDonnell Douglas Model DC-10-10, DC-10-10F, DC-10-15, DC-10-30, DC-10-30F (KC-10A and KDC-10), DC-10-40, DC-10-40F, MD-10-10F, MD-10-30F, MD-11, and MD-11F Airplanes

AGENCY: Federal Aviation Administration (FAA), Department of Transportation (DOT).

ACTION: Notice of proposed rulemaking (NPRM).

SUMMARY: The FAA proposes to adopt a new airworthiness directive (AD) for certain McDonnell Douglas airplanes identified above. This proposed AD would require repetitive functional tests for noisy or improper operation of the exterior emergency control handle assemblies of the mid, overwing, and aft passenger doors, and corrective actions if necessary. This proposed AD also would provide for optional terminating action for the repetitive tests. This proposed AD is prompted by a report that the exterior emergency control mechanism handles were inoperative on a McDonnell Douglas MD-11 airplane. We are proposing this AD to prevent failure of the passenger doors to operate properly in an emergency condition, which could delay an emergency evacuation and possibly result in injury to passengers and flightcrew.

DATES: We must receive comments on this proposed AD by May 23, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street, SW., room PL-401, on the plaza level of the Nassif Building, Washington, DC. This docket number is FAA-2005-20882; the directorate identifier for this docket is 2004-NM-241-AD.

FOR FURTHER INFORMATION CONTACT: Ken Sujishi, Aerospace Engineer; Cabin Safety, Mechanical, and Environmental Branch; ANM-150L; FAA; Los Angeles Aircraft Certification Office; 3960 Paramount Boulevard; Lakewood, California 90712-4137; telephone (562) 627-5353; fax (562) 627-5210.

SUPPLEMENTARY INFORMATION:

Comments Invited

We invite you to submit any relevant written data, views, or arguments regarding this proposed AD. Send your comments to an address listed under ADDRESSES. Include “Docket No. FAA-2005-20882; Directorate Identifier 2004-NM-241-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that an operator found, during a heavy maintenance visit, that the emergency control mechanism handles of the mid, overwing, and aft passenger doors were inoperative on a McDonnell Douglas MD-11 airplane. Investigation revealed that the six steel bearings in each control mechanism were corroded and had seized. This condition, if not corrected, could lead to failure of the passenger doors to operate properly in an emergency condition, which could delay an emergency evacuation and possibly result in injury to passengers and flightcrew.

Similar Models

The subject area on certain McDonnell Douglas Model DC-10-10,

DC-10-10F, DC-10-15, DC-10-30, DC-10-30F (KC-10A and KDC-10), DC-10-40, DC-10-40F, MD-10-10F, MD-10-30F, and MD-11F airplanes is almost identical to that on the affected Model MD-11 airplanes. Therefore, all of these models may be subject to the same unsafe condition.

Other Related Rulemaking

Operators should note that a notice of proposed rulemaking (NPRM), docket identifier 2001-NM-359-AD, applicable to certain McDonnell Douglas Model DC-10-10, DC-10-10F, DC-10-15, DC-10-30, DC-10-30F (KC-10A and KDC-10), DC-10-40, DC-10-40F, MD-10-10F, MD-10-30F, MD-11 and MD-11F airplanes, was published in the Federal Register on November 12, 2003 (68 FR 64006). That NPRM proposed to require repetitive operation of the exterior emergency door handle of the forward passenger door to determine if binding exists in the exterior emergency control handle mechanism, and corrective actions if necessary.

Relevant Service Information

We have reviewed McDonnell Douglas Service Bulletin MD11-52-044 and Service Bulletin DC10-52-219; both Revision 1; both dated September 3, 2004. The service bulletins describe procedures for, among other things, repetitive functional tests for noisy or improper operation of the exterior emergency control handle assemblies of the mid, overwing, and aft passenger doors, and corrective actions if necessary. Corrective actions include replacing the steel bearings with bearings made from corrosion-resistant material. The service bulletins also indicate that replacing the steel bearings as described provides optional terminating action for the repetitive tests. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Operators should note that this proposed AD allows operators to continue the repetitive functional tests instead of doing the terminating action. In making this determination, the FAA considers that, in the case of this AD, long-term continued operational safety is adequately assured by doing the repetitive functional tests to detect binding before it represents a hazard to the airplane, and by doing corrective actions within the specified time limits.

Clarification of Service Information

The service information also describes procedures for installing lube fittings in the emergency control handle assemblies to minimize the possibility that binding of the exterior door free fall handle mechanisms would prevent the passenger doors from free falling to the closed position. Installing the lube fittings does not help to correct the unsafe condition specified by this proposed AD and would therefore not be required by this proposed AD.

The service information is applicable to all mid, overwing, and aft passenger doors. However, some of these doors may have been fastened shut to render them inoperable according to some approved freighter configurations. Such doors would not be subject to the requirements of this proposed AD.

Costs of Compliance

There are about 633 airplanes of the affected design in the worldwide fleet. This proposed AD would affect about 218 airplanes of U.S. registry. The following table provides the estimated costs, at an average labor rate of $65 per work hour, for U.S. operators to comply with this proposed AD.

Test and Modification Costs
Action | Work hours | Parts cost | Cost per airplane | Fleet cost
Functional test | 1 | N/A | $65 per test cycle | $14,170
Replace bearings | 6 | $825 | 1,215 per door, if required | N/A

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2005-20882; Directorate Identifier 2004-NM-241-AD.

Comments Due Date

(a) The Federal Aviation Administration (FAA) must receive comments on this AD action by May 23, 2005.

Affected ADs

(b) None.

Applicability

(c) This AD applies to the airplanes identified in Table 1 of this AD; certificated in any category.

Table 1.—Applicability
Airplane model | Applicable service bulletin
DC-10-10, DC-10-10F, DC-10-15, DC-10-30, DC-10-30F airplanes (KC-10A and KDC-10), DC-10-40, DC-10-40F, MD-10-10F, MD-10-30F airplanes | McDonnell Douglas Service Bulletin DC10-52-219, Revision 1, dated September 3, 2004.
MD-11 and MD-11F airplanes | McDonnell Douglas Service Bulletin MD11-52-044, Revision 1, dated September 3, 2004.

Unsafe Condition

(d) This AD was prompted by a report indicating that the exterior emergency control mechanism handles of the mid, overwing and aft passenger doors were inoperative. We are issuing this AD to prevent failure of the passenger doors to operate properly in an emergency condition, which could delay an emergency evacuation and possibly result in injury to passengers and flightcrew.

Compliance

(e) You are responsible for having the actions required by this AD performed within the compliance times specified, unless the actions have already been done.

Service Bulletin Reference

(f) The term “service bulletin,” as used in this AD, means the Accomplishment Instructions of McDonnell Douglas Service Bulletin MD11-52-044, Revision 1, and Service Bulletin DC10-52-219, Revision 1; both dated September 3, 2004; as applicable.

Functional Test

(g) Within 6,000 flight hours or 18 months after the effective date of this AD, whichever occurs later, perform a functional test of the exterior emergency control handle assemblies of the mid, overwing, and aft passenger doors; by doing all actions specified in the applicable service bulletin, except as provided by paragraph (i) of this AD.

(1) If the functional test reveals no noisy operation or binding: Repeat the functional test at intervals not to exceed 6,000 flight hours or 18 months, whichever occurs later, until the terminating action of paragraph (h) of this AD has been accomplished.

(2) If any functional test required by this AD reveals noisy operation or binding: Prior to further flight, replace the steel bearings with bearings made from corrosion-resistant material in accordance with the applicable service bulletin.

Optional Terminating Action

(h) Accomplishment of the actions required by paragraph (g)(2) of this AD constitutes terminating action for the repetitive tests required by paragraph (g)(1) of this AD only for the modified doors.

Inoperable Doors

(i) Any mid, overwing, or aft passenger door that has been fastened shut and rendered inoperable according to some approved airplane freighter configuration is not subject to the requirements of this AD.

Alternative Methods of Compliance (AMOCs)

(j) The Manager, Los Angeles Aircraft Certification Office (ACO), FAA, has the authority to approve AMOCs for this AD, if requested in accordance with the procedures found in 14 CFR 39.19.

Issued in Renton, Washington, on March 31, 2005.
Kalene C. Yanamura,
Acting Manager, Transport Airplane Directorate, Aircraft Certification Service.

[FR Doc. 05-6910 Filed 4-6-05; 8:45 am]

BILLING CODE 4910-13-P